DEPARTMENT OF COMMERCE

National Oceanic and Atmospheric Administration

Agency Information Collection Activities; Submission to the Office of Management and Budget (OMB) for Review and Approval; Comment Request; Alaska Region Permit Family of Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before January 29, 2021.

ADDRESSES: Interested persons are invited to submit written comments to Adrienne Thomas, NOAA PRA Officer, at Adrienne.thomas@noaa.gov. Please reference OMB Control Number 0648-0206 in the subject line of your comments. Do not submit Confidential Business Information or otherwise sensitive or protected information.

FOR FURTHER INFORMATION CONTACT: Requests for additional information or specific questions related to collection activities should be directed to Gabrielle Aberle 586-7228.

SUPPLEMENTARY INFORMATION:

I. Abstract

The National Marine Fisheries Services (NMFS), Alaska Region, is requesting extension of a currently approved information collection for the applications for the Federal Fisheries Permit, the Federal Processor Permit, and the Exempted Fishing Permit.

NMFS requires a Federal Fisheries Permit (FFP) or Federal Processor Permit (FPP) for participation in the groundfish fisheries of the exclusive economic zone off Alaska. NMFS issues an Exempted Fishing Permit (EFP) to allow groundfish fishing activities that would otherwise be prohibited under regulations for groundfish fishing. EFPs are issued to support projects that could benefit the groundfish fisheries and the environment and result in gathering information not otherwise available through research or commercial fishing operations. Regulations governing these permits are at 50 CFR 600.745, 679.4, and 679.6.

Operators of vessels and managers of processors must have a permit on board or on site when fishing, receiving, buying, or processing groundfish and non-groundfish species. The permit information provides harvest gear types; descriptions of vessels, shoreside processors, and stationary floating processors; and expected fishery activity levels. The information requested on the permit applications is used for fisheries management and regulatory compliance by NMFS Sustainable Fisheries Division, NMFS Restricted Access Management Program, NMFS Observer Program, NOAA Office of Law Enforcement, the U.S. Coast Guard, and the North Pacific Fisheries Management Council.

Section 303(b)(1) of the Magnuson-Stevens Fishery Conservation and Management Act specifically recognizes the need for permit issuance. Requiring a permit for marine resource users is one of the regulatory steps taken to carry out conservation and management objectives. Permit issuance is essential in fishery resources management for identification of the participants and expected activity levels and for regulatory compliance.

II. Method of Collection

The FFP and FPP application forms are available as fillable pdfs on the NMFS Alaska Region website and may be downloaded, completed, and printed prior to submission by mail, delivery, or fax. An FPP may be renewed online through eFISH on the NMFS Alaska Region website. There is no form to apply for an EFP. Applicants submit the required information by mail, delivery, email, or fax.

III. Data

OMB Control Number: 0648-0206.

Form Number(s): None.

Type of Review: Regular submission (extension of a current information collection).

Affected Public: Individuals or households; Business or other for-profit organizations.

Estimated Number of Respondents: 531.

Estimated Time per Response: FFP application, 21 minutes; FPP application, 25 minutes; EFP application, 100 hours.

Estimated Total Annual Burden Hours: 590 hours.

Estimated Total Annual Cost to Public: $440.

Respondent's Obligation: Mandatory.

Legal Authority: Magnuson-Stevens Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-26371 Filed 11-27-20; 8:45 am]

BILLING CODE 3510-22-P